COMMITTEE FOR PURCHASE FROM PEOPLE WHO ARE BLIND OR SEVERELY DISABLED

Procurement List Additions

AGENCY: Committee for Purchase from People Who are Blind or Severely Disabled.

ACTION: Additions to Procurement List.

SUMMARY: This action adds to the Procurement List services to be furnished by nonprofit agencies employing persons who are blind or have other severe disabilities.

Effective Date: December 18, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION: On July 1, September 16, and September 23, 2005 the Committee for Purchase From People Who Are Blind or Severely Disabled published notice (70 FR 38099, 54709, and 55816) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Base Supply Center, Fort George G. Meade, Building #2250, Fort Meade, Maryland.

NPA: Blind Industries & Services of Maryland, Baltimore, Maryland.

Contracting Activity: Army Contracting Agency, Fort Meade, Maryland.

Service Type/Location: Custodial Services, Law Enforcement Center, FR 19, MP2 South of San Miguel, Sells, Arizona.

NPA: J.P. Industries, Inc., Tucson, Arizona.

Contracting Activity: Department of Homeland Security, Washington, DC.

Service Type/Location: Custodial Services, Postwide, Fort Benning, Georgia.

NPA: Power Works Industries, Inc., Columbus, Georgia.

Contracting Activity: Army Contracting Agency, Fort McPherson, Georgia.

This action does not affect current contracts awarded prior to the effective date of this addition or options that may be exercised under those contracts.

Sheryl D. Kennerly,
Director, Information Management.

[FR Doc. E5-6383 Filed 11-17-05; 8:45 am]

BILLING CODE 6353-01-P